FEDERAL COMMUNICATIONS COMMISSION

47 CFR Part 73

[DA 02-3216; MB Docket No. 02-368, RM-10610; MB Docket No. 02-369, RM-10611; MB Docket No. 02-370, RM-10612]

Radio Broadcasting Services; Lockney, TX; Quitaque, TX; and Turkey, TX

AGENCY: Federal Communications Commission.

ACTION: Proposed rule.

SUMMARY: This document proposes changes in the FM Table of Allotments in Lockney, TX, Quitaque, TX, and Turkey, TX. The Commission requests comment on a petition filed by Linda Crawford proposing the allotment of Channel 271C3 to Lockney, Texas, as Lockney's first local aural broadcast service. Channel 271C3 can be allotted to Lockney in compliance with the Commission's minimum distance separation requirements with a site restriction of 4.8 km (3.0 miles) southeast of Lockney at reference coordinates of 34-05-27 North Latitude and 101-24-24 West Longitude. The proposed allotment is mutually-exclusive with the proposal to add Channel 272A at Quitaque, Texas (MB Docket No. 02-369, RM-10611). See Supplementary Information infra.

DATES: Comments must be filed on or before January 30, 2003, and reply comments on or before February 14, 2003.

ADDRESSES: Federal Communications Commission, Washington, DC 20554. In addition to filing comments with the FCC, interested parties should serve the petitioners as follows: Linda Crawford, 3500 Maple Avenue, #1320, Dallas, TX 75219; and Maurice Salsa, 5615 Evergreen Valley Drive, Kingwood, TX 75345.

FOR FURTHER INFORMATION CONTACT: Deborah A. Dupont, Media Bureau (202) 418-2180.

SUPPLEMENTARY INFORMATION: This is a synopsis of the Commission's Notice of Proposed Rule Making, MB Docket Nos. 02-368, 02-369, and 02-370; adopted December 4, 2002, and released December 9, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission requests comment on a petition filed by Maurice Salsa proposing the allotment of Channel 272A at Quitaque, Texas, as the community's first local aural transmission service. Channel 272A can be allotted to Quitaque in compliance with the Commission's minimum distance separation requirements with a site restriction of 14.2 km (8.8 miles) northeast of Quitaque. The coordinates for Channel 259C2 at Quitaque would be 34-25-51 North Latitude and 100-55-25 West Longitude. The proposed allotment is mutually-exclusive with both the proposal to add Channel 271C3 at Lockney, Texas (MB Docket No. 02-368, RM-10610) and the proposal to add Channel 269A at Turkey, Texas (MB Docket No. 02-370, RM-10612).

The Commission further requests comment on a petition filed by Linda Crawford proposing the allotment of Channel 269A at Turkey, Texas, as the community's first local aural transmission service. (A rulemaking is pending in another proceeding to consider allocation of Channel 239A as a first FM transmission service.) Channel 269A can be allotted to Turkey in compliance with the Commission's minimum distance separation requirements with a site restriction of 14.5 km (9.0 miles) southwest of Turkey. The coordinates for Channel 253A at Rule are 34-17-32 North Latitude and 100-59-52 West Longitude. The proposed allotment is mutually-exclusive with the proposal to add Channel 272A at Quitaque, Texas (MB Docket No. 02-369, RM-10611).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1.The authority citation for Part 73 continues to read as follows:

Authority: 47 U.S.C. 154, 303, 334 and 336.

§ 73.202 [Amended]

2. Section 73.202(b), the Table of FM Allotments under Texas, is amended by adding Lockney, Channel 271C3, Quitaque, Channel 272A, and Turkey, Channel 269A.

Federal Communications Commission.
John A. Karousos,
Assistant Chief, Audio Division, Media Bureau.

[FR Doc. 02-32289 Filed 12-23-02; 8:45 am]

BILLING CODE 6712-01-P